FEDERAL COMMUNICATIONS COMMISSION

47 CFR Parts 0, 1, 2, 15, 27, 73, and 74

[GN Docket No. 12-268; FCC 14-143]

Expanding the Economic and Innovation Opportunities of Spectrum Through Incentive Auctions

AGENCY: Federal Communications Commission.

ACTION: Correcting amendments.

SUMMARY: This document contains corrections to the final regulations to the Commission's rules which were published in the Federal Register on Thursday, November 6, 2014 (79 FR 65906). The Commission published a clarification in the Declaratory Ruling, which clarifies how the Commission intends to preserve the “coverage area” of eligible broadcasters in the repacking process associated with the broadcast television spectrum incentive auctions. This document contains corrections to the adopted date.

DATES: Effective November 6, 2014.

FOR FURTHER INFORMATION CONTACT: Aspasia Paroutsas, Office of Engineering and Technology, 202-418-7285, Aspasia.Paroutsas@fcc.gov.

SUPPLEMENTARY INFORMATION: The regulations that are the subject of this correction relates to “Expanding the Economic and Innovation Opportunities of Spectrum Through Incentive Auctions” adopted date.

Need for Correction

As published, in the final regulations appearing on page 65906 in the Federal Register of November 6, 2014, the first sentence of the SUPPLEMENTARY INFORMATION is corrected to read as follows:

This is a summary of the Commission's Declaratory Ruling, GN Docket No. 12-268, FCC 14-143, adopted September 30, 2014 and released September 30, 2014.

Federal Communications Commission.
Marlene H. Dortch,
Secretary.

[FR Doc. 2014-30079 Filed 12-22-14; 8:45 am]

BILLING CODE 6712-01-P